DEPARTMENT OF ENERGY

Federal Energy Regulatory Commission

[Project No. 5867-054]

Alice Falls Hydro, LLC; Notice of Revised Procedural Schedule for Environmental Assessment for the Proposed Project Relicense

On September 29, 2021, Alice Falls Hydro, LLC filed an application for a new license to continue to operate and maintain the 2.1-megawatt Alice Falls Hydroelectric Project No. 5867 (Alice Falls Project). On April 24, 2023, Commission staff issued a notice of intent to prepare an Environmental Assessment (EA) to evaluate the effects of relicensing the Alice Falls Project. The notice of intent included a schedule for preparing a single EA.

By this notice, Commission staff is updating the procedural schedule for completing the EA. The revised schedule is shown below. Further revisions to the schedule may be made as appropriate.

Milestone | Target date
Issue EA | March 2024.

Any questions regarding this notice may be directed to Kelly Wolcott at (202) 502-6480, or by email at kelly.wolcott@ferc.gov.

Dated: December 13, 2023.
Debbie-Anne A. Reese,
Deputy Secretary.

[FR Doc. 2023-27878 Filed 12-19-23; 8:45 am]

BILLING CODE 6717-01-P